DEPARTMENT OF COMMERCE

International Trade Administration

(A-570-848)

Freshwater Crawfish Tail Meat From the People's Republic of China: Final Results and Partial Rescission of the 2005-2006 Antidumping Duty Administrative Review and Rescission of 2005-2006 New Shipper Reviews

AGENCY: Import Administration, International Trade Administration, Department of Commerce.

EFFECTIVE DATE: April 15, 2008.

SUMMARY: The Department of Commerce (the Department) is conducting an administrative review and new shipper reviews of the antidumping duty order on freshwater crawfish tail meat (crawfish) from the People's Republic of China (PRC). The period of review (POR) is September 1, 2005, through August 31, 2006. The Department published the preliminary results of these reviews on October 9, 2007. See Freshwater Crawfish Tail Meat From the People's Republic of China: Preliminary Results and Partial Rescission of the 2005-2006 Antidumping Duty Administrative Review and Preliminary Intent to Rescind 2005-2006 New Shipper Reviews, 72 FR 57288 (October 9, 2007) (Preliminary Results). We invited interested parties to comment on the Preliminary Results. After reviewing interested parties' comments, we made no changes to our calculations for the final results of review. The final dumping margins for this review are listed in the “Final Results of Review” section below.

FOR FURTHER INFORMATION CONTACT: Melissa Blackledge or Jeff Pedersen; AD/CVD Operations, Office 4, Import Administration, International Trade Administration, U.S. Department of Commerce, 14th Street and Constitution Ave., N.W., Washington, DC 20230; telephone: (202) 482-3518 or (202) 482-2769, respectively.

SUPPLEMENTARY INFORMATION:

Background

The Department published the Preliminary Results on October 9, 2007. On December 17, 2007, the petitioners¹, Xuzhou Jinjiang Foodstuffs Co., Ltd. (Xuzhou), Washington International Insurance Co. (WII), the surety company for the U.S. importer of Xuzhou's subject merchandise, and Jingdezhen Garay Foods Co., Ltd (Jingdezhen) submitted case briefs. On December 26, 2007, Xiping Opeck Food Co., Ltd. (Xiping Opeck), and the petitioners submitted rebuttal briefs. On February 22, 2008, WII and Xuzhou submitted comments in response to a memorandum the Department placed on the record regarding Xuzhou's shipments to the United States. See Memorandum from Jeff Pedersen to the File regarding “Information Obtained from the Food and Drug Administration Regarding Shipments by Xuzhou Jinjiang Foodstuffs Co., Ltd.,” dated February 7, 2008.

¹ The petitioners are the Crawfish Processors Alliance, the Louisiana Department of Agriculture and Forestry, and Bob Odom, Commissioner.

On February 1, 2008, the Department extended the time period for completion of the final results until April 7, 2008. See Freshwater Crawfish Tail Meat From the People's Republic of China: Notice of Extension of Time Limit for the Final Results of the 2005-2006 Antidumping Duty Administrative Review and 2005-2006 New Shipper Reviews, 73 FR 6127 (February 1, 2008).

Scope of the Order

The product covered by this antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the new HTSUS numbers for prepared foodstuffs, indicating peeled crawfish tail meat and other, as introduced by CBP in 2000, and HTSUS numbers 0306.19.00.10 and 0306.29.00.00, which are reserved for fish and crustaceans in general. The HTSUS subheadings are provided for convenience and customs purposes only. The written description of the scope of this order is dispositive.

Final Rescission of New Shipper Reviews

In the Preliminary Results, the Department preliminarily rescinded the new shipper reviews of Anhui Tongxin Aquatic Product & Food Co., Ltd. (Anhui), Huoshan New Three-Gold Food Trade Co., Ltd. (Huoshan), and Jingdezhen because it found the companies' sales were not bona fide. See Preliminary Results; see also, separate memoranda for each of these companies to Stephen J. Claeys, Deputy Assistant Secretary For Import Administration from Abdelali Elouaradia, Director, Office 4 Import Administration, regarding Bona Fide Sales Analysis and Intent to Rescind the Review (dated October 1, 2007).

We received comments with respect to our preliminary decision to rescind the new shipper review for Jingdezhen. The Department continues to find sales by Anhui, Huoshan, and Jingdezhen to be non-bona fide. See Comment 2 of the “Issues and Decision Memorandum for the Final Results and Partial Rescission of the 2005-2006 Antidumping Duty Administrative Review and Rescission of 2005-2006 New Shipper Reviews” (Issues and Decision Memorandum) accompanying this notice for a detailed discussion of our decision with respect to Jingdezhen. Because these companies had no reviewable sales during the POR, the Department is rescinding these new shipper reviews. See 19 CFR 351.213(d)(3); see also, Tianjin Tiancheng Pharmaceutical Co., Ltd. v. United States, 366 F. Supp. 2d 1246, 1263 (CIT 2005) (the Court of International Trade affirmed that Commerce may exclude sales from the export price calculation where it finds the sales are not bona fide. In the case of new shipper reviews involving only one sale, exclusion of the new shipper sale as being non-bona fide must necessarily end the review).

Final Partial Rescission of Administrative Review

In the Preliminary Results, the Department preliminarily rescinded the administrative review of Yancheng Hi-King Agriculture Developing Co., Ltd. (Yancheng), which reported no shipments, and Anhui, whose single sale, which was covered by both the new shipper review and administrative review, the Department found to be non-bona fide. Interested parties did not comment on these preliminary rescissions. For the reasons stated in the Preliminary Results, we are rescinding the administrative review with respect to Yancheng and Anhui. See 19 CFR 351.213(d)(3).

Adverse Facts Available

In the Preliminary Results, the Department found that Xuzhou failed to report all of its U.S. sales of subject merchandise, and thus it was appropriate to base the company's dumping margin on total adverse facts available. For these final results, the Department continues to find that it is appropriate to base Xuzhou's dumping margin on total adverse facts available. See the accompanying Issues and Decision Memorandum at Comment 3.

Analysis of Comments Received

All issues raised in the case briefs are addressed in the Issues and Decision Memorandum, which is hereby adopted by this notice. A list of the issues which parties raised and to which we responded in the Issues and Decision Memorandum is attached to this notice as an appendix. The Issues and Decision Memorandum is a public document which is on file in the Central Records Unit in room 1117 in the main Department building, and is accessible on the Web at http://www.ia.ita.doc.gov/frn. The paper copy and electronic version of the memorandum are identical in content.

Changes Since the Preliminary Results

There have been no changes since the Preliminary Results.

Final Results of Review

We determine that the following percentage margins exist for the period September 1, 2005, through August 31, 2006:

Freshwater Crawfish Tail Meat from the PRC
Manufacturer/Exporter | Weighted-Average Margin (Percent)
Xiping Opeck Food Co., Ltd | 13.61
Xuzhou Jinjiang Foodstuffs Co., Ltd. | 223.01
PRC-wide Rate | 223.01

Assessment Rates

Pursuant to 19 CFR 351.212(b), the Department will determine, and U.S. Customs and Border Protection (CBP) shall assess, antidumping duties on all appropriate entries. The Department intends to issue assessment instructions to CBP 15 days after the date of publication of these final results of review.

Cash Deposit Requirements

The following cash deposit requirements will be effective upon publication of this notice of final results of administrative review for all shipments of crawfish from the PRC entered, or withdrawn from warehouse, for consumption on or after the date of publication, as provided by section 751(a)(1) of the Act: (1) for Xiping Opeck and Xuxhou, which each have separate rates, the cash deposit rate will be the company-specific rate shown above; (2) for previously reviewed or investigated companies not listed above that have a separate rate, the cash deposit rate will continue to be the company-specific rate published for the most recent period; (3) the cash deposit rate for all other PRC exporters will be 223.01 percent, the current PRC-wide rate; and (4) the cash deposit rate for all non-PRC exporters will be the rate applicable to the PRC exporter that supplied that exporter. These cash deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 777(i)(1) of the Act.

Dated: April 7, 2008.
David M. Spooner,
Assistant Secretary for Import Administration.

Appendix - List of Issues

Comment 1: Whether the Department Should Assign a Combination Rate to Xiping Opeck

Comment 2: Whether Jingdezhen's Sale was Bona Fide

Comment 3: Whether Xuzhou's Dumping Margin Should be Based on Total Adverse Facts Available

A. Unreported POR Sales of Subject Merchandise

B. Application of Adverse Facts Available

C. The Appropriate AFA Rate

Comment 4: Whether the Department Should have Accepted New Factual Information Submitted by Washington International Insurance Company

Comment 5: Whether Certain Factual Information Should be Removed from the Record

[FR Doc. E8-8046 Filed 4-14-08; 8:45 am]

BILLING CODE 3510-DS-S